DEPARTMENT OF LABOR

Employment and Training Administration

[TA-W-63,502]

Onsite International Inc., El Paso, TX; Notice of Negative Determination Regarding Application for Reconsideration

By application of July 28, 2008, a petitioner requested administrative reconsideration of the Department's negative determination regarding eligibility to apply for Trade Adjustment Assistance (TAA), applicable to workers and former workers of the subject firm. The denial notice was signed on July 7, 2008, and published in the Federal Register on July 28, 2008 (73 FR 43790).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Onsite International, Inc., El Paso, Texas engaged in administrative functions was denied because the petitioning workers did not produce an article within the meaning of Section 222 of the Act.

The workers of Onsite International Inc., El Paso, Texas were previously certified eligible to apply for TAA under petition number TA-W-55,702, which expired on October 13, 2006. The investigation revealed that production at the subject firm ceased in 2006.

The petitioner contends that the Department erred in its interpretation of work performed at the subject facility and further conveys that workers of the subject company “handled all aspects of shipping, receiving, repairing, repacking of the garments”. The petitioner further states that the subject firm produced articles in the last three years and workers of the subject firm were previously certified eligible for TAA based on a shift in production to Mexico. The petitioner seems to allege that because the petitioning workers were part of the initial certified worker group and remained employed by the subject firm after all the production stopped and beyond October 13, 2006, the current worker group, who are engaged in distribution of articles, should be also eligible for TAA.

A company official of the subject firm verified that production of articles was shifted from the subject firm to Mexico in 2004 and that no production took place at the subject firm since 2006. The official further clarified that workers of the subject firm remained to end programs and dispose of the assets after all production ceased.

The investigation revealed that the subject facility did not manufacture articles since January 2006, when production shifted to Mexico. Although a small amount of cutting continued until early 2007, workers of the subject firm were not engaged in production of an article or supporting production of the article during the relevant time period.

Under the Trade Act of 1974, as amended, certification of group eligibility to apply for TAA will be issued where a shift of production is the alleged basis for certification provided that (1) a significant number or proportion of the workers of such workers' firm, or an appropriate subdivision, have been totally or partially separated or are threatened to become totally or partially separated; and (2) there has been a shift in production from the workers' firm or subdivision to an eligible foreign country of articles like or directly competitive with those produced by the subject firm or subdivision under section 222(a)(2)(B)(i); and, either the foreign country is a party to a free trade agreement with the United States under section 222(a)(2)(B)(ii)(I), is a beneficiary country under section 222(a)(2)(B)(ii)(II), or there has been or is likely to be an increase in imports of like or directly competitive articles. The Department interprets the standard for certification as requiring that the shift of production of an article to a foreign country must be a cause of the separations of workers of the firm that were engaged in or supported the production of that article.

That the subject workers were not separated, or threatened with separation, until January 31, 2008 (two years after the subject firm's shift of production of garments to Mexico) supports the Department's findings that the subject workers' employment with the subject firm was not dependent upon domestic production and that the subject firm's shift of garment production to Mexico was not a factor in the subject workers' separations. Therefore, the Department determines that the group eligibility to apply for benefits under the Trade Act of 1974, as amended, has not been met.

Further, the Department found that no new information was provided to contradict the original negative findings.

Conclusion

After review of the application and investigative findings, I conclude that there has been no error or misinterpretation of the law or of the facts which would justify reconsideration of the Department of Labor's prior decision. Accordingly, the application is denied.

Signed at Washington, DC this 19th day of September 2008.
Elliott S. Kushner,
Certifying Officer, Division of Trade Adjustment Assistance.

[FR Doc. E8-23301 Filed 10-2-08; 8:45 am]

BILLING CODE 4510-FN-P